DEPARTMENT OF COMMERCE

National Oceanic and Atmospheric Administration

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: West Coast Groundfish Trawl Economic Data Collection.

OMB Control Number: 0648-0618.

Form Number(s): None.

Type of Request: Regular (extension of a currently approved information collection).

Number of Respondents: 206.

Average Hours per Response: Catcher vessels, catcher-processors and motherships, 8 hours each; shore-based processonrs, 20 hours.

Burden Hours: 2,224.

Needs and Uses: This information collection is needed in order to meet the monitoring requirements of the Magnuson-Stevens Act (MSA). In particular, the Northwest Fisheries Science Center (NWFSC) needs economic data on all harvesters, first receivers, shorebased processors, catcher processors, and motherships participating in the West Coast groundfish trawl fishery.

The currently approved collection covers collection of data for the 2014-2016 operating years. The renewed approval will cover years 2017-2019. Data will be collected from all catcher vessels registered to a limited entry trawl endorsed permit, catcher processors registered to catcher processor permits, and motherships registered to mothership permits, first receivers, and shorebased processors that received round or head-and-gutted IFQ groundfish or whiting from a first receiver to provide the necessary information for analyzing the effects of the West Coast Groundfish Trawl Catch Share Program.

As stated in 50 CFR 660.114, the EDC forms due on September 1, 2018 will provide data for the 2017 operating year.

Affected Public: Business or other for-profit organizations.

Frequency: Annually.

Respondent's Obligation: Mandatory.

This information collection request may be viewed at reginfo.gov. Follow the instructions to view Department of Commerce collections currently under review by OMB.

Written comments and recommendations for the proposed information collection should be sent within 30 days of publication of this notice to OIRA_Submission@omb.eop.gov or fax to (202) 395-5806.

Dated: January 30, 2018.
Sarah Brabson,
NOAA PRA Clearance Officer.

[FR Doc. 2018-02167 Filed 2-2-18; 8:45 am]

BILLING CODE 3510-22-P